DEPARTMENT OF AGRICULTURE

Agricultural Marketing Service

7 CFR Part 1240

[Doc. No. AMS-LP-21-0028]

RIN 0581-AE07

Natural Grass Sod Promotion, Research, and Information Order; Referendum Procedures

AGENCY: Agricultural Marketing Service, USDA.

ACTION: Final rule.

SUMMARY: This rule establishes procedures for conducting a referendum to determine whether issuance of the proposed Natural Grass Sod Promotion, Research, and Information Order (Order) is favored by natural grass sod producers. The procedures will also be used for any subsequent referenda under the Order. The proposed Order is published separately in this issue of the Federal Register.

DATES: Effective December 10, 2024.

FOR FURTHER INFORMATION CONTACT: Maribel Reyna, Director, Research and Promotion Division, Telephone: (202) 302-1139; or Email: Maribel.Reyna@usda.gov.

SUPPLEMENTARY INFORMATION: This final rule is issued pursuant to the Commodity Promotion, Research, and Information Act of 1996 (1996 Act) (7 U.S.C. 7411-7425).

As part of this rulemaking process, two proposed rulemakings were published in the Federal Register on October 16, 2023. The first rulemaking described the industry's proposed Order (88 FR 71306), and the second rulemaking proposed referendum procedures for the Order (88 FR 71302). Both proposed rulemakings provided a 60-day comment period that ended December 15, 2023. A total of 72 comments were received for the proposed referendum procedures and 174 comments were received for the proposed Order. The comments for the proposed Order are addressed in a separate proposed rulemaking published in this issue of the Federal Register.

Executive Orders 12866, 13563, and 14094

Executive Orders (E.O.) 12866 and 13563 direct agencies to assess all costs and benefits of available regulatory alternatives and, if regulation is necessary, to select regulatory approaches that maximize net benefits (including potential economic, environmental, public health, and safety effects; distributive impacts; and equity). E.O. 13563 emphasizes the importance of quantifying both costs and benefits, reducing costs, harmonizing rules, and promoting flexibility. E.O. 14094 updates and modernizes E.O. 12866 and directs agencies to conduct proactive outreach to engage interested and affected parties through a variety of means, such as through field offices, and alternative platforms and media. This final rule does not meet the definition of a significant regulatory action contained in section 3(f) of E.O. 12866, as amended by E.O. 14094, and, therefore, the Office of Management and Budget (OMB) has waived review of this action.

Executive Order 12988

This final rule has been reviewed under E.O. 12988, Civil Justice Reform. It is not intended to have retroactive effect. Section 524 of the 1996 Act provides that it shall not affect or preempt any other Federal or State law authorizing promotion or research relating to an agricultural commodity.

Under section 519 of the 1996 Act, a person subject to an order may file a written petition with the Secretary of Agriculture (Secretary) stating that the order, any provision of the order, or any obligation imposed in connection with the order, is not established in accordance with the law, and requesting a modification of the order or an exemption from the order. Any petition filed challenging an order, any provision of an order, or any obligation imposed in connection with an order, shall be filed within two years after the effective date of the order, provision, or obligation subject to challenge in the petition. The petitioner will have the opportunity for a hearing on the petition. Thereafter, the Secretary will issue a ruling on the petition. The 1996 Act provides that the district court of the United States for any district in which the petitioner resides or conducts business shall have jurisdiction to review a final ruling on the petition, if the petitioner files a complaint for that purpose not later than 20 days after the date of the entry of Secretary's final ruling.

Executive Order 13175

This final rule has been reviewed under E.O. 13175, Consultation and Coordination with Indian Tribal Governments. E.O. 13175 requires Federal agencies to consult and coordinate with tribes on a government-to-government basis on: (1) policies that have tribal implications, including regulations, legislative comments, or proposed legislation; and (2) other policy statements or actions that have substantial direct effects on one or more Indian tribes, on the relationship between the Federal Government and Indian tribes, or on the distribution of power and responsibilities between the Federal Government and Indian tribes.

AMS has assessed the impact of this final rule on Indian tribes and determined that this final rule will not have tribal implications that require consultation under E.O. 13175. AMS hosts a quarterly teleconference with tribal leaders where matters of mutual interest regarding the marketing of agricultural products are discussed. Information about the regulation will be shared during an upcoming quarterly call, and tribal leaders will be informed about the proposed Order and the opportunity to vote. AMS will work with the U.S. Department of Agriculture (USDA) Office of Tribal Relations to ensure meaningful consultation is provided as needed with regards to the regulations.

Background

AMS will conduct the referendum. AMS will also conduct extensive outreach to natural grass sod producers to inform them of the referendum voting process and the deadlines for voting. As an up-front referendum, producers will vote on whether they favor issuance of the proposed Order, which was revised based on comments received from the public. The program will be implemented if it is favored by a simple majority of natural grass sod producers voting in the referendum that have been engaged in the production and sale of natural grass sod products in the United States during a representative period determined by the Secretary. The revised proposed Order, including comment analysis, is published separately in this issue of the Federal Register.

Should the referendum result in support for the creation of the program, AMS will publish a final rule for the Order that will include the date when assessments will begin. The referendum procedures in this final rule will also be used for any subsequent referenda conducted under the Order.

Authority in the 1996 Act

The 1996 Act (7 U.S.C. 7411-7425) authorizes USDA to establish agricultural commodity research and promotion orders that may include a combination of promotion, research, industry information, and consumer information activities funded by mandatory assessments. These programs are designed to maintain and expand markets and uses for agricultural commodities as defined under section 513(1) of the 1996 Act (7 U.S.C. 7412(1)). The 1996 Act provides for alternatives within the terms of a variety of provisions. Paragraph (e) of section 518 of the 1996 Act (7 U.S.C. 7417(e)) provides three options for determining industry approval of a new research and promotion program: (1) by a majority of those persons voting; (2) by persons voting for approval who represent a majority of the volume of the agricultural commodity; or (3) by a majority of those persons voting for approval who also represent a majority of the volume of the agricultural commodity. In addition, paragraphs (a) and (b) of section 518 of the 1996 Act (7 U.S.C. 7417(a) and (b)) provide for referenda to ascertain approval of an order to be conducted either prior to its going into effect or within three years after assessments first begin under the order.

Program Overview

AMS received a proposal for a national research and promotion program for natural grass sod from Turfgrass Producers International (TPI). TPI is an industry organization made up of members from across the natural grass seed and sod industry worldwide. If favored, the program would be financed by an assessment on natural grass sod products and administered by a board of industry members selected by the Secretary. Initially, producers would pay one-tenth (1/10th) of one penny ($0.01) per square foot, or the equivalent thereof, of natural grass sod products sold in the United States. No natural grass sod producer would be exempt from paying the assessment unless producing a certified organic product under the National Organic Program.

If favored, the purpose of the program would be to strengthen the position of natural grass in the marketplace, maintain and expand markets for natural grass, and develop new uses for natural grass. TPI proposed that a referendum be held among eligible natural grass sod producers to determine whether they favor implementation of the program prior to the Order going into effect. TPI recommended that the program be implemented if it is favored by a simple majority of the natural grass sod producers voting in the referendum.

Summary of Regulatory Text

This section highlights key provisions of the referendum procedures for the proposed Order. The referendum procedures will be located in the U.S. Code of Federal Regulations at 7 CFR part 1240, subpart B—Referendum Procedures.

Definitions

Section 1240.81 of the Referendum Procedures defines certain terms that will be used throughout. All terms have the same meaning as set forth in the proposed rulemaking published in the Federal Register on October 16, 2023 (88 FR 71306) in § 1240.20 of subpart A.

Section 1240.83 discusses eligibility and manner of persons voting. An eligible natural grass sod producer; an officer or employee of an eligible natural grass sod producer; or an administrator, executor, or trustee of an eligible natural grass sod producer may cast a ballot. Any individual voting in a referendum shall certify that such individual has the authority to take such action. Upon request of the referendum agent, the individual must submit adequate evidence of such authority.

Section 1240.84 discusses the referendum agent, appointed by the Administrator, who will provide instructions for voting and conduct the referendum. The referendum agent will determine the time period during which ballots may be cast and give reasonable public notice of the referendum, not less than thirty (30) days before the referendum is conducted. No person who claims to be an eligible natural grass sod producer will be refused a ballot. At the end of the voting period the agent will tabulate the results, prepare a report on the referendum, and announce the results to the public.

Final Regulatory Flexibility Analysis

In accordance with the Regulatory Flexibility Act (5 U.S.C. 601-612), AMS is required to examine the impact of this final rule on small entities. Accordingly, AMS has prepared this final regulatory flexibility analysis.

The purpose of the Regulatory Flexibility Act is to fit regulatory actions to the scale of businesses subject to such actions so that small businesses will not be disproportionately burdened. At the time this analysis was prepared, the Small Business Administration defined small agricultural producers (NAICS Code 111421) as those having annual receipts of no more than $3,250,000 (13 CFR 121.201). This represents an increase from the size standard ($750,000) that was applied when AMS prepared the initial regulatory flexibility analysis. AMS applied the updated threshold for purposes of analysis in this final rule. The changes do not impact AMS's ultimate determination regarding the impact of the rule on small entities.

According to the 2022 USDA Census of Agriculture data, there are 1,447 farms in the U.S. producing natural grass; of those, approximately 80 percent (or 1,150 farms) are small agricultural producers based on value of sales per farm.

USDA will conduct the referendum to determine if eligible natural grass sod producers favor issuance of the proposed Order. As previously mentioned, paragraph (e) of section 518 of the 1996 Act (7 U.S.C. 7417) provides three options for determining industry approval of a new research and promotion program: (1) by a majority of those persons voting; (2) by persons voting for approval who represent a majority of the volume of the agricultural commodity; or (3) by a majority of those persons voting for approval who also represent a majority of the volume of the agricultural commodity.

This program is an industry-led effort to drive consumer demand for natural grass sod products through the development and implementation of programs, plans, and projects of research, information, and promotion, with funding for such efforts provided by the industry through assessments paid by natural grass sod producers involved in the production of monostands or blends or mixtures of Bentgrass, Bermudagrass, Buffalograss, Centipedegrass, Fine fescue, Kentucky bluegrass, Ryegrass, Seashore Paspalum, Saint Augustinegrass, Tall fescue, Zoysiagrass, Bahiagrass, and other native or adapted grasses harvested and sold as sod, and products containing natural grass with artificial elements that are sold as sod (“natural grass sod products”). In order to ensure that natural grass sod producers decide whether this program should be implemented and, subsequently, whether it should continue or not, this program will be implemented only if it is favored by a majority of natural grass sod producers voting in a referendum. This procedure will also be used for any subsequent referendum under the Order. Eligible natural grass sod producers will have the opportunity to participate in the referendum. Voting in the referendum is optional and this rule outlines the requirements for doing so.

Regarding alternatives, USDA will consider a variety of options to hold the referendum vote including email, mail, electronic voting through a smartphone application or website, sending ballots to one central location by mail ballot or through electronic mail, or by other means selected by the Administrator. AMS has previously conducted referenda through USDA Farm Service Agency County Offices for some larger checkoff programs. For more recently created programs, AMS has utilized an online voting application. AMS will provide easy access to information for potential voters through an email, telephone number, and internet-based resources.

This action will impose an additional reporting burden on natural grass sod producers. Natural grass sod producers will have the opportunity to complete and submit a ballot to USDA indicating whether they favor implementation of the proposed Order or, for subsequent referenda of an approved program, a continuance of the program. The specific burden for the ballot is detailed later in this document in the section titled Paperwork Reduction Act. As with all Federal promotion programs, reports and forms are periodically reviewed to reduce information requirements and duplication by industry and public sector agencies. Finally, USDA has not identified any relevant Federal rules that duplicate, overlap, or conflict with this rule.

AMS is committed to complying with the E-Government Act, to promote the use of the internet and other information technologies to provide increased opportunities for citizen access to Government information and services, and for other purposes.

Regarding outreach efforts, AMS will keep natural grass sod producers informed throughout the program implementation and referendum process to ensure that they are aware of and are able to participate in the program implementation process. AMS will also publicize information regarding the referendum process so that trade associations and related industry media are informed and can amplify the information to eligible producers.

Paperwork Reduction Act

In accordance with the Paperwork Reduction Act of 1995 (44 U.S.C. chapter 35), the referendum ballot, which represents the information collection and recordkeeping requirements that is imposed by this rule, has been submitted to OMB for approval.

Title: Natural Grass Sod Promotion, Research, and Information Order; Referendum Procedures.

OMB Number: 0581-0348.

Expiration Date of Approval: 3 years from OMB date of approval.

Type of Request: New information collection for research and promotion programs.

Abstract: The information collection requirements in the request are essential to carry out the intent of the 1996 Act. The information collection concerns a proposal received by USDA for a national research and promotion program for natural grass sod. The program would be financed by an assessment on natural grass sod and would be administered by a board of industry members selected by the Secretary.

A referendum will be held among natural grass sod producers to determine whether they favor issuance of the proposed Order before it goes into effect. The purpose of the program would be to help build the market for natural grass sod.

The information collection requirements in this final rule concern the initial referendum that will be held to determine whether the program is favored by industry and any subsequent referenda conducted under the proposed Order, if it is approved. The ballot will be completed by natural grass sod producers who want to indicate whether they support implementation or continuation of the program.

For the purpose of estimating the cost of reporting and recordkeeping, this final rule uses $56.18 per hour. To arrive at this amount, AMS used the mean hourly earnings of farmers, ranchers, and other agricultural managers from the U.S. Department of Labor, Bureau of Labor Statistics, May 2023 National Occupational Employment and Wages Estimates,¹ that is, $43.35 and added an additional 29.6 percent to account for benefits and compensation.² This calculation results in a total hourly wage of $56.18. Costs of benefits and compensation guidance was obtained from the Bureau of Labor Statistics News Release issued September 10, 2024.³

¹ Occupational Employment and Wages, May 2023; 11-9013 Farmers, Ranchers, and Other Agricultural Managers https://www.bls.gov/oes/current/oes_nat.htm.

² News Release for Employer Costs for Employee Compensation—June 2024, https://www.bls.gov/news.release/pdf/ecec.pdf.

³ Economic News Release: Employer Costs for Employee Compensation Summary for September 10, 2024 https://www.bls.gov/news.release/ecec.nr0.htm.

Information collection requirement that is included in this final rule is:

LP-8 Referendum Ballot and LP-8-1 Envelope (OMB Form No. 0581-0348).

Estimate of Burden: Public recordkeeping burden for this collection of information is estimated to average 0.25 hours per referendum ballot.

Respondents: Natural grass sod producers.

Estimated Number of Respondents: 1,447.

Estimated Number of Responses per Respondent: 1 for initial referenda (Once implemented, subsequent referenda every 7 years thereafter 0.14 per year.)

Estimated Total Annual Burden on Respondents: 362 hours for initial referenda (20 hours for subsequent referendum.)

Total Cost: (362 hours × $56.18) $20,337.16.

The ballot will be added to the other information collections approved under OMB No. 0581-0348.

An estimated 1,447 respondents would provide information to AMS. The estimated cost of providing the information to AMS by respondents is $20,337.16. This total has been estimated by multiplying 362 total hours required for reporting and recordkeeping by $56.18 per hour, representing the average hourly earnings plus benefits by various occupations involved in keeping this information. Data for computation of this hourly rate was obtained from the U.S. Department of Labor Statistics.

Comment Analysis

A proposed rule describing the referendum procedures was published in the Federal Register on October 16, 2023 (88 FR 71302). A notice to trade was announced by AMS and the proposed rulemaking provided a 60-day comment period ending December 15, 2023. Seventy-two total comments were received. Of the 72 comments, 62 supported the proposed Order and the referendum procedures as written. Three comments were in favor of the referendum procedures but suggested various edits to the proposed rulemaking. Two comments did not support the referendum and provided further recommendations to change the proposed rulemaking. Four comments were not in favor of establishing a sod program.⁴ One comment neither supported nor opposed the proposed referendum procedures.

⁴ Comments opposed to the proposed Order are discussed in the proposed rulemaking titled Natural Grass Sod Promotion, Research, and Information Order, which is published separately in this edition of the Federal Register.

Voting Process

Of the 62 commentors who supported the referendum procedures as written, 36 commentors expressed specific support for the voting provision in § 1240.83(a), which states that “[e]ach eligible natural grass sod producer . . . shall be entitled to cast only one ballot in any referenda.” These commentors agreed that each producer should be allowed one vote regardless of the size of their farm(s) or production volume. These commentors stated that this was the most equitable and fair method for voting.

Only six commentors said they disagreed with the one-producer one-vote procedure in proposed § 1240.83(a). Four of the six commentors would rather apply option 2 of section 518(e) of the 1996 Act (7 U.S.C. 7417(e)), under which industry approval of a new research and promotion program is determined by persons voting for approval who represent a majority of the volume of the agricultural commodity. In their opinion, because large producers would pay more in assessments than smaller producers, acreage or production should be considered. One commentor supported a voting process that would combine options 2 and 3 of the 1996 Act; however, the commentor did not provide any further details. Another commentor stated that the proposed Order should be approved only if it is favored by a majority (50 percent + one vote) of all industry producers in the United States who are eligible to vote, or by those voting who represent a majority of all production acreage in the United States.

Section 518(e) of the 1996 Act (7 U.S.C. 7417(e)) provides three options for determining industry approval of a new research and promotion program: (1) by a majority of those persons voting; (2) by persons voting for approval who represent a majority of the volume of the agricultural commodity; or (3) by a majority of those persons voting for approval who also represent a majority of the volume of the agricultural commodity. Allowing a majority of persons voting in a referendum to determine whether an order should be approved (and allocating one vote to each eligible natural grass sod producer, as provided in proposed § 1240.83(a)), is an acceptable option to count votes and determine industry approval of a new research and promotion program. Considering this is acceptable under the 1996 Act and the majority of the commentors supported the referendum procedures as written, § 1240.83(a) remains unchanged.

Twenty comments encouraged AMS to conduct a referendum using electronic voting as this method could yield higher voter participation, decrease referendum costs, and would be the safest and most efficient method. One comment stated that paper ballots should be optional. Section 1240.83(c) of the referenda procedures allows ballots to be cast “by mail, electronic mail, electronic voting . . . or by any other means set forth by the Department.” Since this section allows for multiple methods of casting ballots, this section will remain as written.

Comments Opposed With Additional Recommendations

Two commentors were opposed to the proposed referendum procedures, suggested the referendum is being conducted prematurely, and provided several recommendations.⁵

⁵ These commentors also objected to elements of the proposed Order, and those portions of their comments are addressed in the proposed rulemaking titled Natural Grass Sod Promotion, Research, and Information Order, which is published separately in this edition of the Federal Register.

First, they recommended “modify[ing]” the “eligible natural grass sod producer” definition to require AMS to identify all natural grass sod producers in the United States and ensure that each producer is informed about the proposed program prior to any referendum. AMS will use several methods to identify as many eligible natural grass sod producers as possible, to include self-identification from producers and industry input.

Second, they stated that AMS should conduct a remedial round of public outreach to re-assess industry support for the program following an approximately 3-year period, during which they claim the proposed Order was not visible or part of regular industry discussions. However, TPI conducted extensive industry engagement regarding the proposed program, including educational outreach to local organizations and individual producers, solicited input on industry's interest in a national checkoff program, and determined that there was substantial interest in moving forward with a national program.

As the commentors noted, industry hosted a webinar to get feedback from natural grass sod producers regarding their interest in developing a national grass sod checkoff program. On May 19, 2020, U.S. sod producers participated in a 2-hour online seminar to learn more about USDA research and promotion programs. After this webinar, attendees were polled to determine their interest in developing a national checkoff program for the natural grass sod industry and 64 percent stated they were very interested, 20 percent stated they were interested, 13 percent stated they were interested in learning more, and only 3 percent stated they were not interested. Since the industry formally submitted its proposed Order on June 18, 2021, USDA has been conducting various required steps to offer a new research and promotion program for industry consideration. This work included the preparation and review of numerous documents, shepherding the proposed program through OMB's regulatory review process, and the drafting and ultimate publication of the proposed program and referendum rules on October 16, 2023.

Additionally, TPI submitted industry letters of support that confirmed the industry's desire to pursue a research and promotion program to fund research and communicate the benefits of natural grass to the public. Further, if in the future the industry determines that the Order is no longer in their best interests, the Order may be amended through the regulatory process or terminated.

Third, an additional recommendation encouraged USDA to establish a clear schedule and procedures for the referendum. This commentor provided a sample schedule that included a 120-day enrollment period to identify all eligible sod producers and a 120-day period to conduct industry education and outreach. AMS, through public notice on its website, post cards, letters, and through its external networks, will make a referendum schedule, instructions, and any other relevant information available for all eligible producers so that trade associations and related industry media can amplify the information.

The fourth and final recommendation encouraged USDA to complete an improved analysis to consider various factors such as the cost to collect, report, and remit assessments, particularly for operations with multiple farms, in multiple States. AMS recognizes that each industry is diverse in various ways such as size, method of production and distribution, business practices, marketing strategies, staff size, and region. The updated regulatory analysis in this rule and subpart A did not factor every unique method of collecting assessments but rather focused on the number of farms reported and square foot of sod sold nationwide according to the 2022 U.S. Census. Furthermore, the commentors did not include any information or data to show that USDA's analysis of the impact of assessments on sod producers under the proposed program is inaccurate. The initial referendum will provide eligible sod producers an opportunity to vote to determine whether they favor establishment of the checkoff program.

List of Subjects in 7 CFR Part 1240

Administrative practice and procedure, Advertising, Consumer information, Marketing agreements, Natural grass sod, Promotion, Reporting and recordkeeping requirements.

For the reason set forth in the preamble, title 7, chapter XI of the Code of Federal Regulations, is amended by adding part 1240 to read as follows:

PART 1240—NATURAL GRASS SOD PROMOTION, RESEARCH, AND INFORMATION ORDER

Subpart A—[Reserved]
Subpart B—Referendum Procedures
Sec.
1240.80 General.
1240.81 Definitions.
1240.83 Voting.
1240.84 Instructions.
1240.85 Subagents.
1240.86 Ballots.
1240.87 Referendum Report.
1240.88 Confidential Information.
1240.89 OMB Control Number.

Authority: 7 U.S.C. 7401, 7411-7425.

Subpart A—[Reserved]

Subpart B—Referendum Procedures

§ 1240.80 General.

Referenda to determine whether eligible natural grass sod producers favor the issuance, continuance, amendment, suspension, or termination of the Natural Grass Sod Promotion, Research and Information Order shall be conducted in accordance with this subpart.

§ 1240.81 Definitions.

For purposes of this subpart, the following terms shall have the meanings set forth in this section:

Administrator means the Administrator of the Agricultural Marketing Service, or any officer or employee of USDA to whom there has been delegated or may be delegated the authority to act in the Administrator's stead.

Referenda refers, collectively, to the initial referendum and any subsequent referenda.

Referendum refers, individually, to the initial referendum or a subsequent referendum.

Referendum agent or agent means the individual or individuals designated by the Secretary to conduct the referendum.

§ 1240.83 Voting.

(a) Each eligible natural grass sod producer that has sold natural grass sod products in the United States during the representative period is eligible to vote in the initial referendum or subsequent referenda and shall be entitled to cast only one ballot in any referenda.

(b) Proxy voting is not authorized, but an officer or employee of an eligible natural grass sod producer, or an administrator, executor, or trustee of an eligible natural grass sod producer may cast a ballot on behalf of such entity. Any individual so voting in a referendum shall certify that such individual is an officer or employee of the eligible natural grass sod producer, or an administrator, executive, or trustee of the eligible natural grass sod producer and that such individual has the authority to take such action. Upon request of the referendum agent, the individual shall submit adequate evidence of such authority.

(c) All ballots are to be cast by mail, electronic mail, electronic voting through a smartphone application or website, sending ballots to a central location by mail ballot or through electronic mail, or by any other means set forth by the Department.

§ 1240.84 Instructions.

The referendum agent shall conduct the referendum, in the manner provided in this subpart, under the supervision of the Administrator. The Administrator may prescribe additional instructions, consistent with the provisions of this subpart, to govern the procedure to be followed by the referendum agent. Such agent shall:

(a) Determine the time period during which ballots may be cast;

(b) Provide ballots and related material to be used in the referendum. The ballot shall provide for recording essential information, including that needed for ascertaining whether the person voting, or on whose behalf the vote is cast, is an eligible natural grass sod producer;

(c) Give reasonable public notice of the referendum, not less than 30 days before the referendum is to be conducted:

(1) By using available media or public information sources, without incurring advertising expense, to publicize the dates, places, method of voting, eligibility requirements, and other pertinent information. Such sources of publicity may include, but are not limited to, print, radio, email communications, and social media; and

(2) By such other means as the agent may deem advisable.

(d) Distribute to eligible natural grass sod producers whose names and contact information are known to the referendum agent, the instructions on voting, a ballot, and a summary of the terms and conditions of the proposed Natural Grass Sod Promotion, Research, and Information Order or the continuance of the Natural Grass Sod Promotion, Research, and Information Order, as the case may be. No person who claims to be an eligible natural grass sod producer shall be refused a ballot;

(e) At the end of the voting period, collect, open, number, and review the ballots and tabulate the results in the presence of an agent of a third party authorized to monitor the referendum process;

(f) Prepare a report on the referendum; and

(g) Announce the results to the public.

§ 1240.85 Subagents.

The referendum agent may appoint any individual or individuals necessary or desirable to assist the agent in performing such agent's functions under this subpart. Each individual so appointed may be authorized by the agent to perform any or all of the functions which, in the absence of such appointment, shall be performed by the agent.

§ 1240.86 Ballots.

The referendum agent and subagents shall accept all ballots cast. However, if an agent or subagent deems that a ballot should be challenged for any reason, the agent or subagent shall endorse above their signature, on the ballot, a statement to the effect that such ballot was challenged, by whom challenged, the reasons therefore, the results of any investigations made with respect thereto, and the disposition thereof. Ballots deemed invalid under this subpart shall not be counted.

§ 1240.87 Referendum report.

Except as otherwise directed, the referendum agent shall prepare and submit to the Administrator a report on the results of the referendum, the manner in which it was conducted, the extent and kind of public notice given, and other information pertinent to the analysis of the referendum and its results.

§ 1240.88 Confidential information.

The ballots and other information or reports that reveal, or tend to reveal, the vote of any natural grass sod producer and the voter list shall be strictly confidential and shall not be disclosed.

§ 1240.89 OMB control number.

The control number assigned to the information collection requirement in this subpart by the Office of Management and Budget (OMB) pursuant to the Paperwork Reduction Act of 1995, 44 U.S.C. chapter 35, is OMB control number 0581-.0348.

Melissa Bailey,
Associate Administrator, Agricultural Marketing Service.

[FR Doc. 2024-28388 Filed 12-9-24; 8:45 am]

BILLING CODE P